DEPARTMENT OF ENERGY

Federal Energy Regulatory Commission

[Docket No. RP00-338-002]

Mojave Pipeline Company; Notice of Compliance Filing

June 19, 2003.

Take notice that on June 13, 2003, Mojave Pipeline Company (Mojave) tendered for filing as part of its FERC Gas Tariff, Second Revised Volume No. 1, the tariff sheets listed on the Appendix to the filing, to become effective August 1, 2003.

Mojave states that the tendered tariff sheets are being filed to comply with the Commission's order issued May 29, 2003, in this proceeding and to implement those tariff provisions approved as being in compliance with the requirements of Order No. 637, et seq.

Any person desiring to be heard or to protest said filing should file a motion to intervene or a protest with the Federal Energy Regulatory Commission, 888 First Street, NE., Washington, DC 20426, in accordance with sections 385.214 or 385.211 of the Commission's rules and regulations. All such motions or protests must be filed in accordance with § 154.210 of the Commission's regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: June 25, 2003.

Magalie R. Salas,
Secretary.

[FR Doc. 03-16208 Filed 6-25-03; 8:45 am]

BILLING CODE 6717-01-P